DEPARTMENT OF JUSTICE

[OMB 1140-0081]

Agency Information Collection Activities; Proposed eCollection eComments Requested; Appeals of Background Checks

AGENCY: Bureau of Alcohol, Tobacco, Firearms and Explosives, Department of Justice.

ACTION: 30-Day notice.

SUMMARY: The Department of Justice (DOJ), Bureau of Alcohol, Tobacco, Firearms and Explosives (ATF), will be submitting the following information collection request to the Office of Management and Budget (OMB) for review and approval in accordance with the Paperwork Reduction Act of 1995.

DATES: Comments are encouraged and will be accepted for 30 days until August 22, 2025.

FOR FURTHER INFORMATION CONTACT: If you have comments especially on the estimated public burden or associated response time, suggestions, or need a copy of the proposed information collection instrument with instructions or additional information, please contact: Shawn Stevens, by email at FELC@atf.gov/Shawn.Stevens@atf.gov, or telephone at 304-616-4400.

SUPPLEMENTARY INFORMATION: The proposed information collection was previously published in the Federal Register, volume 90 page 19003, on Monday, May 5th, 2025, allowing a 60-day comment period. DOJ received one public comment.

Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1140-0081. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

DOJ received one public comment during the 60-day notice and comment period. The commenter stated that, in their personal experience, the time estimate for completing an appeal was closer to four hours than the two hours estimated in the ICR. However, the two-hour time for completing these appeals was determined from information previously provided by respondents. It is possible that some appeals take less time than two hours to complete and others take more time. While the weight of respondents resulted in up to two hours as the standard average amount of time, in deference to this comment, DOJ has increased the time to three hours to account for the commenter's experience that some appeals might take more time. However, because it is likely to be few, DOJ is not increasing the estimated average to four hours.

Overview of This Information Collection

1. Type of Information Collection: Revision of a previously approved collection.

2. Title of the Form/Collection: Appeals of Background Checks.

3. Agency form number, if any, and the applicable component of the Department of Justice sponsoring the collection: Agency form number: None. Component: Bureau of Alcohol, Tobacco, Firearms and Explosives, U.S. Department of Justice.

4. Affected public who will be asked or required to respond, as well as a brief abstract: Affected Public: State, local and tribal governments. The obligation to respond is voluntary.

Abstract: 18 U.S.C. 843(h) requires the Attorney General to conduct background checks on the persons whose names and descriptions accompany the above applications and requires notification to any person determined to be disabled under section 842(i) of this Chapter, as well as information on how the disability may be relieved. The regulations at 27 CFR 555.33 state that an individual who wishes to challenge a determination may direct their challenge to the Director. Information Collection (IC) OMB 1140-0081 is being revised to include the decrease in total respondents from 500 to 132, and a consequential change in the hourly burden from 1,000 to 396 hours.

5. Obligation to Respond: Voluntary.

6. Total Estimated Number of Respondents: 132 respondents.

7. Estimated Time per Respondent: 3 hours.

8. Frequency: Once annually.

9. Total Estimated Annual Time Burden: 396 hours.

10. Total Estimated Annual Other Costs Burden: $132 in postage costs.

If additional information is required, contact: Darwin Arceo, Department Clearance Officer, Policy and Planning Staff, Justice Management Division, United States Department of Justice, Two Constitution Square, 145 N Street NE, 4W-218 Washington, DC 20530.

Dated: July 21, 2025.
Darwin Arceo,
Department Clearance Officer for PRA, U.S. Department of Justice.

[FR Doc. 2025-13852 Filed 7-22-25; 8:45 am]

BILLING CODE 4410-FY-P